DEPARTMENT OF HEALTH AND HUMAN SERVICES

Health Resources and Services Administration

Meeting of the Advisory Committee on Infant Mortality

AGENCY: Health Resources and Services Administration (HRSA), Department of Health and Human Services (HHS).

ACTION: Notice.

SUMMARY: In accordance with the Federal Advisory Committee Act, this notice announces that the Secretary's Advisory Committee on Infant Mortality (ACIM or Committee) has scheduled a public meeting. Information about ACIM and the agenda for this meeting can be found on the ACIM website at https://www.hrsa.gov/advisory-committees/infant-mortality/index.html.

DATES: December 4-5, 2019, 9:00 a.m.-5:00 p.m. Eastern Time (ET).

ADDRESSES: This meeting will be held in-person and via webinar. The address for the meeting is 5600 Fishers Lane, Rockville, Maryland 20857.

• The webinar link will be available at ACIM's website: https://www.hrsa.gov/advisory-committees/infant-mortality/index.html.

• The conference call-in number will be available at ACIM's website: https://www.hrsa.gov/advisory-committees/infant-mortality/index.html.

FOR FURTHER INFORMATION CONTACT: David S. de la Cruz, Ph.D., MPH, Designated Federal Official, (DFO), Maternal and Child Health Bureau (MCHB), HRSA, 5600 Fishers Lane, Room 18N25, Rockville, Maryland 20857; at 301-443-0543 or dcruz@hrsa.gov.

SUPPLEMENTARY INFORMATION: The ACIM advises the Secretary of HHS on department activities and programs directed at reducing infant mortality and improving the health status of pregnant women and infants. The ACIM represents a public-private partnership at the highest level to provide guidance and focus attention on the policies and resources required to address the reduction of infant mortality and the improvement of the health status of pregnant women and infants. With a focus on life course, the ACIM addresses disparities in maternal health to improve maternal health outcomes, including preventing and reducing maternal mortality and severe maternal morbidity. The ACIM provides advice on how best to coordinate the myriad of federal, state, local, and private programs and efforts that are designed to deal with the health and social problems impacting infant mortality and maternal health, including implementation of the Healthy Start program and maternal and infant health objectives from the National Health Promotion and Disease Prevention Objectives. The ACIM is authorized by section 222 of the Public Health Service Act (42 U.S.C. 217a), as amended. The Committee is governed by provisions of Public Law 92-463, as amended, (5 U.S.C. App. 2), which sets forth standards for the formation and use of Advisory Committees.

The agenda for the December 4-5, 2019, meeting is being finalized and may include the following: Updates from the HRSA Maternal and Child Health Bureau (MCHB), Centers for Disease Control and Prevention, and the MCHB Healthy Start program; introduction of members; briefing on infant mortality and health disparity data in the U.S.; the Prematurity Research Expansion and Education for Mothers who deliver Infants Early (PREEMIE) Act; and discussions on future topics areas for ACIM to address. Agenda items are subject to change as priorities dictate. The final meeting agenda will be available 2 days prior to the meeting on the Committee's website: https://www.hrsa.gov/advisory-committees/Infant-Mortality/index.html.

Members of the public will have the opportunity to provide comments. Public participants may submit written statements in advance of the scheduled meeting. Oral comments will be honored in the order they are requested and may be limited as time allows. Requests to submit a written statement or make oral comments to the ACIM should be sent to David S. de la Cruz, DFO, using the contact information above at least 3 business days prior to the meeting.

Individuals who plan to attend and need special assistance or another reasonable accommodation should notify David S. de la Cruz at the address and phone number listed above at least 10 business days prior to the meeting. Since this meeting occurs in a federal government building, attendees must go through a security check to enter the building. Non-U.S. Citizen attendees must notify HRSA of their planned attendance at least 20 business days prior to the meeting in order to facilitate their entry into the building. All attendees are required to present government-issued identification prior to entry.

Maria G. Button,
Director, Executive Secretariat.

[FR Doc. 2019-24060 Filed 11-1-19; 8:45 am]

BILLING CODE 4165-15-P